DEPARTMENT OF HEALTH AND HUMAN SERVICES

Administration for Children and Families

Office of Family Assistance; Statement of Organization, Functions and Delegation of Authority; Correction

AGENCY: Office of Family Assistance (OFA)/ACF/DHHS.

ACTION: Notice; correction.

SUMMARY: This notice amends Part K of the Statement of Organization, Functions, and Delegations of Authority of the Department of Health and Human Services (DHHS), Administration of Children and Families (ACF) as follows: Chapter KH, The Office of Family Assistance (OFA) (65 FR 8980), as last amended in the Federal Register on February 23, 2000. This notice reflects the correction of an administrative code given in OFA's new structure for the Division of TANF Information Network listed on page 8981, the first column, in the notice issued February 23, 2000.

Delete KH.10 Organization in its entirety and replace with the following:

KH.10 Organization. The Office of Family Assistance is headed by a Director, who reports to the Assistant Secretary for Children and Families. The office is organized as follows:

Office of the Director (KHA)

Division of Policy and Program Development (KHB)

Division of Technical Assistance and Training (KHC)

Division of TANF Information Network (KHG)

FOR FURTHER INFORMATION CONTACT: Contact Glenda D. Harden at 202-401-5623.

Dated: May 1, 2000.
Alvin C. Collins,
Director, Office of Family Assistance.

[FR Doc. 00-11257 Filed 5-4-00; 8:45 am]

BILLING CODE 4184-01-M